DEPARTMENT OF ENERGY

Federal Energy Regulatory Commission

[Docket Nos. CP06-425-000 and CP06-426-000]

Discovery Producer Services LLC, Discovery Gas Transmission LLC; Notice of Filing

July 27, 2006.

Take notice that on July 20, 2006, Discovery Producer Services LLC (DPS) and Discovery Gas Transmission LLC (Discovery) jointly filed an abbreviated application for the certificates of public convenience and necessity, pursuant to section 7(c) of the Natural Gas Act (NGA) and Part 157 of the Commission's Rules and Regulations, authorizing DPS to provide Discovery the use of capacity on DPS' non-jurisdictional gathering facilities through a capacity lease, to effectuate the transportation of natural gas received from Texas Eastern Transmission, LP (Texas Eastern) for delivery to DPS' Larose processing plant and for ultimate delivery downstream into the interstate pipeline grid. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

On October 11, 2005, the Commission granted the emergency authorization allowing DPS to deliver gas supplies received from Texas Eastern, into its 20-inch non-jurisdictional gathering line to Discovery's jurisdictional facilities for subsequent delivery to the Larose processing plant. Because of the threat of potential supply disruptions due to the storms in the Gulf Coast region remains an ongoing concern, DPS and Discovery request Commission authorization to make permanent the limited term emergency transportation service which will expire on November 30, 2006. DPS will make available capacity, up to 300,000 Dts per day, on DPS' 20-inch non-jurisdictional gathering line to Discovery. This proposed capacity will be provided to Discovery on an interruptible basis through a capacity lease arrangement (Lease Agreement). The service offered to Discovery through the Lease Agreement will be strictly ancillary to DPS' primary business of providing gathering, processing, treating, and compression services in Louisiana. DPS requests a limited jurisdiction certificate to permit Discovery's use of DPS' non-jurisdictional facilities without having DPS' gathering and processing facilities, and operations becoming subject to the Commission's jurisdiction and the full panoply of the NGA. The pipeline interconnects and facilities necessary to provide this transportation service already exist. No new facilities will be required.

Any questions regarding the application are to be directed to Kevin R. Rehm, Vice President, Discovery Producer Services LLC, Discovery Gas Transmission LLC, 2800 Post Oak Boulevard, Houston, Texas 77056; phone number (713) 215-2694.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: August 17, 2006.

Magalie R. Salas,
Secretary.

[FR Doc. E6-12506 Filed 8-2-06; 8:45 am]

BILLING CODE 6717-01-P